DEPARTMENT OF ENERGY

Federal Energy Regulatory Commission

Combined Notice of Filings #1

Take notice that the Commission received the following electric corporate filings:

Docket Numbers: EC12-60-000

Applicants: Black Hills Corporation, Enserco Energy Inc., Twin Eagle Resource Management, LLC

Description: Joint Application for Authorization under Section 203 of the Federal Power Act, and Request for Confidential Treatment, Expedited Consideration and Waivers of Black Hills Corp., et al.

Filed Date: 1/19/12

Accession Number: 20120119-5140

Comments Due: 5 p.m. ET 2/9/12

Take notice that the Commission received the following electric rate filings:

Docket Numbers: ER10-2984-003

Applicants: Merrill Lynch Commodities, Inc.

Description: Merrill Lynch Commodities, Inc. Notice of Non-Material Change in Status.

Filed Date: 1/18/12

Accession Number: 20120118-5153

Comments Due: 5 p.m. ET 2/8/12

Docket Numbers: ER12-551-001

Applicants: Westar Energy, Inc.

Description: Westar Energy, Inc. submits tariff filing per: Supplement to Amended Compliance Filing, Schedule 3A to be effective N/A.

Filed Date: 1/19/12

Accession Number: 20120119-5000

Comments Due: 5 p.m. ET 2/9/12

Docket Numbers: ER12-665-001

Applicants: ITC Midwest LLC

Description: ITC Midwest LLC submits tariff filing per 35.17(b): Amendment to Filing to be effective 2/21/2012.

Filed Date: 1/19/12

Accession Number: 20120119-5057

Comments Due: 5 p.m. ET 2/9/12

Docket Numbers: ER12-705-001

Applicants: ITC Midwest LLC

Description: ITC Midwest LLC submits tariff filing per 35.17(b): Amendment Filing to be effective 2/28/2012.

Filed Date: 1/19/12

Accession Number: 20120119-5056

Comments Due: 5 p.m. ET 2/9/12

Docket Numbers: ER12-835-000

Applicants: PJM Interconnection, L.L.C.

Description: PJM Interconnection, L.L.C. submits tariff filing per 35.13(a)(2)(iii): PJM Queue X2-082; First Revised Service Agreement Nos. 3156 and 3157 to be effective 12/20/2011.

Filed Date: 1/19/12

Accession Number: 20120119-5125

Comments Due: 5 p.m. ET 2/9/12

Docket Numbers: ER12-836-000

Applicants: PacifiCorp

Description: PacifiCorp's Termination of Maintenance Agreement between PacifiCorp and Lakeview Biomass, LLC.

Filed Date: 1/19/12

Accession Number: 20120119-5137

Comments Due: 5 p.m. ET 2/9/12

Docket Numbers: ER12-837-000

Applicants: PJM Interconnection, L.L.C.

Description: PJM Interconnection, L.L.C. submits tariff filing per 35.13(a)(2)(iii): Queue Position X2-013; Original Service Agreement No. 3176 to be effective 12/20/2011.

Filed Date: 1/19/12

Accession Number: 20120119-5150

Comments Due: 5 p.m. ET 2/9/12

Docket Numbers: ER12-838-000

Applicants: Southwest Power Pool, Inc.

Description: Southwest Power Pool, Inc. submits tariff filing per 35.13(a)(2)(iii): 2213R1 Cimarron Windpower II GIA to be effective 12/20/2011.

Filed Date: 1/19/12

Accession Number: 20120119-5154

Comments Due: 5 p.m. ET 2/9/12

Docket Numbers: ER12-839-000

Applicants: FPLE Rhode Island State Energy, L.P.

Description: FPLE Rhode Island State Energy, L.P. submits tariff filing per 35.13(a)(2)(iii): Entergy RISE Notice of Succession to be effective 1/19/2012.

Filed Date: 1/19/12

Accession Number: 20120119-5162

Comments Due: 5 p.m. ET 2/9/12

Docket Numbers: ER12-840-000

Applicants: Northern Indiana Public Service Company

Description: Northern Indiana Public Service Company submits tariff filing per 35.13(a)(2)(iii): Definitions to be effective 2/1/2012.

Filed Date: 1/19/12

Accession Number: 20120119-5174

Comments Due: 5 p.m. ET 2/9/12

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2012.
Nathaniel J. Davis, Sr.,
Deputy Secretary.

[FR Doc. 2012-1613 Filed 1-25-12; 8:45 am]

BILLING CODE 6717-01-P